DEPARTMENT OF TRANSPORTATION

Federal Aviation Administration

Public Notice for Waiver of Aeronautical Land-Use Assurance; Greater Kankakee Airport, Kankakee, IL

AGENCY: Federal Aviation Administration, DOT.

ACTION: Corrected notice of intent of waiver with respect to land.

SUMMARY: Previous notice of intent of waiver with respect to land was published in the Federal Register on November 27, 2001 (page 59297). The notice provided that comments must be received on or before November 27, 2001 and did not provide 30 days for public comment as required. This corrected notice amends the date for comments to be filed. Comments must be received on or before December 27, 2001.

FOR FURTHER INFORMATION CONTACT: Denis Rewerts, Program Manager, 2300 East Devon Avenue, Des Plaines, IL, 60018. Telephone Number 847-294-7195/FAX Number 847-294-7046.

Issued in Des Plaines, Illinois on November 28, 2001.
Philip M. Smithmeyer,
Manager, Chicago Airports District Office, FAA, Great Lakes Region.

[FR Doc. 01-30175 Filed 12-4-01; 8:45 am]

BILLING CODE 4910-13-M